FEDERAL COMMUNICATIONS COMMISSION

47 CFR Part 73

[DA 01-398; MM Docket No. 01-47; RM-10063]

Radio Broadcasting Services; Valley Mills, TX

AGENCY: Federal Communications Commission.

ACTION: Proposed rule.

SUMMARY: The Commission requests comments on a petition for rule making filed by Valley Mills Radio Broadcasting Company seeking the allotment of Channel 237C2 at Valley Mills, TX, as the community's first local aural service. Channel 237C2 can be allotted to Valley Mills in compliance with the Commission's minimum distance separation requirements with a site restriction of 27.8 kilometers (17.3 miles) west, at coordinates 31-44-52 NL; 97-44-33 WL, to avoid a short-spacing to proposed Channel 236C2 at Caldwell, TX.

DATES: Comments must be filed on or before April 9, 2001, and reply comments on or before April 24, 2001.

ADDRESSES: Secretary, Federal Communications Commission, Washington, DC 20554. In addition to filing comments with the FCC, interested parties should serve the petitioner, as follows: Robert Lewis Thompson, Taylor Thiemann & Aitkin, L.C., 908 King Street, Suite 300, Alexandria, VA 22314 (Counsel to petitioner).

FOR FURTHER INFORMATION CONTACT: Leslie K. Shapiro, Mass Media Bureau, (202) 418-2180.

SUPPLEMENTARY INFORMATION: This is a synopsis of the Commission's Notice of Proposed Rule Making, MM Docket No. 01-47; adopted February 7, 2001 and released February 16, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Valley Mills, Channel 237C2.

Federal Communications Commission.
John A. Karousos,
Chief, Allocations Branch, Policy and Rules Division, Mass Media Bureau.

[FR Doc. 01-4917 Filed 2-28-01; 8:45 am]

BILLING CODE 6712-01-P